DEPARTMENT OF COMMERCE

Foreign-Trade Zones Board

[S-185-2018]

Foreign-Trade Zone 287—Tunica County, Mississippi Application for Subzone Future Electronics Distribution Center, L.P., Southaven, Mississippi

An application has been submitted to the Foreign-Trade Zones (FTZ) Board by Tunica County, grantee of FTZ 287, requesting subzone status for the facilities of Future Electronics Distribution Center, L.P., located in Southaven, Mississippi. The application was submitted pursuant to the provisions of the Foreign-Trade Zones Act, as amended (19 U.S.C. 81a-81u), and the regulations of the FTZ Board (15 CFR part 400). It was formally docketed on October 30, 2018.

The proposed subzone (51.036 acres) is located at 4150 Old Airways Boulevard, Southaven, Desoto County. No authorization for production activity has been requested at this time. The proposed subzone would be subject to the existing activation limit of FTZ 287.

In accordance with the FTZ Board's regulations, Qahira El-Amin of the FTZ Staff is designated examiner to review the application and make recommendations to the Executive Secretary.

Public comment is invited from interested parties. Submissions shall be addressed to the FTZ Board's Executive Secretary at the address below. The closing period for their receipt is December 17, 2018. Rebuttal comments in response to material submitted during the foregoing period may be submitted during the subsequent 15-day period to January 2, 2019.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Qahira El-Amin at Qahira.El-Amin@trade.gov or (202) 482-5928.

Dated: October 31, 2018.
Andrew McGilvray,
Executive Secretary.

[FR Doc. 2018-24338 Filed 11-6-18; 8:45 am]

BILLING CODE 3510-DS-P